DEPARTMENT OF DEFENSE

Office of the Secretary

[Transmittal No. 24-22]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 24-22, Policy Justification, and Sensitivity of Technology.

Dated: January 16, 2025.
Stephanie J. Bost,
Alternate OSD Federal Register Liaison Officer, Department of Defense.

BILLING CODE 6001-FR-P

BILLING CODE 6001-FR-C

Transmittal No. 24-22

Notice of Proposed Issuance of Letter of Offer Pursuant to Section 36(b)(1) of the Arms Export Control Act, as amended

(i) Prospective Purchaser: Government of Germany

(ii) Total Estimated Value:

Major Defense Equipment * | $ 0
Other | $281 million
TOTAL | $281 million

(iii) Description and Quantity or Quantities of Articles or Services under Consideration for Purchase:

Major Defense Equipment (MDE):

None

Non-MDE:

Included are AN/PRC-117 radios; AN/PRC-160 radios; spare and repair parts; support equipment; tools and test equipment; diagnostic equipment; technical data and publications; personnel training and training equipment; United States (U.S.) Government and contractor technical assistance; technical and logistics support services; and other related elements of logistics and program support.

(iv) Military Department: Army (GY-B-XBU, GY-B-XBV, GY-B-XBW, GY-B-XBX)

(v) Prior Related Cases, if any: None

(vi) Sales Commission, Fee, etc., Paid, Offered, or Agreed to be Paid: None

(vii) Sensitivity of Technology Contained in the Defense Article or Defense Services Proposed to be Sold: See Attached Annex

(viii) Date Report Delivered to Congress: February 27, 2024

* as defined in Section 47(6) of the Arms Export Control Act.

POLICY JUSTIFICATION

Germany—High-Frequency, Very-High Frequency, and Ultra-High Frequency Radios

The Government of Germany has requested to buy AN/PRC-117 radios; AN/PRC-160 radios; spare and repair parts; support equipment; tools and test equipment; diagnostic equipment; technical data and publications; personnel training and training equipment; U.S. Government and contractor technical assistance; technical and logistics support services; and other related elements of logistics and program support. The estimated total cost is $281 million.

This proposed sale will support the foreign policy and national security of the U.S. by improving the security of a NATO Ally that is an important force for political and economic stability in Europe.

The proposed sale will improve interoperability between Germany and other NATO military forces and will increase secure communications effectiveness to help combat current and future threats. Germany will have no difficulty absorbing this equipment into its armed forces.

The proposed sale of this equipment and support will not alter the basic military balance in the region.

The principal contractor will be L3Harris Global Communications, Inc., Rochester, NY. There are no known offset agreements in connection with this potential sale.

Implementation of this proposed sale will not require the assignment of U.S. Government or contractor representatives to Germany.

There will be no adverse impact on U.S. defense readiness as a result of this proposed sale.

Transmittal No. 24-22

Notice of Proposed Issuance of Letter of Offer Pursuant to Section 36(b)(1) of the Arms Export Control Act

Annex

Item No. vii

(vii) Sensitivity of Technology:

1. The AN/PRC-117 and AN/PRC-160 radios and their accessories are used to transmit and receive voice and data information using Type-1 encryption.

2. The highest level of classification of defense articles, components, and services included in this potential sale is SECRET.

3. If a technologically advanced adversary were to obtain knowledge of the hardware and software elements, the information could be used to develop countermeasures or equivalent systems which might reduce system effectiveness or be used in the development of a system with similar or advanced capabilities.

4. A determination has been made that Germany can provide substantially the same degree of protection for the sensitive technology being released as the U.S. Government. This sale is necessary in furtherance of the U.S. foreign policy and national security objectives outlined in the Policy Justification.

5. All defense articles and services listed in this transmittal have been authorized for release and export to Germany.

[FR Doc. 2025-01492 Filed 1-21-25; 8:45 am]

BILLING CODE 6001-FR-P